DEPARTMENT OF THE INTERIOR

Fish and Wildlife Service

[FWS-R4-ES-2017-N089; FXES11130400000C2-178-FF04E00000]

Endangered and Threatened Wildlife and Plants; Technical/Agency Draft Recovery Plan for the Cumberland Darter

AGENCY: Fish and Wildlife Service, Interior.

ACTION: Notice of availability and request for public comment.

SUMMARY: We, the Fish and Wildlife Service (Service), announce the availability of the technical/agency draft recovery plan for the endangered Cumberland darter, a fish. The draft recovery plan includes specific recovery objectives and criteria that will guide the process of recovery under the Endangered Species Act of 1973, as amended (Act). We request review and comment on this draft recovery plan from local, State, and Federal agencies, and the public.

DATES: In order to be considered, comments on the draft recovery plan must be received on or before June 4, 2018.

ADDRESSES:

Reviewing documents: If you wish to review this technical/agency draft recovery plan, you may obtain a copy by contacting Michael Floyd, U.S. Fish and Wildlife Service, Kentucky Ecological Services Field Office, 330 West Broadway, Suite 265, Frankfort, KY 40601; tel. 502-695-0468; or by visiting the Service's Kentucky Field Office website at http://www.fws.gov/frankfort/.

Submitting comments: If you wish to comment, you may submit your comments by one of the following methods:

1. You may submit written comments and materials to us at the Kentucky Field Office address;

2. You may hand-deliver written comments to our Kentucky Field Office, at the above address, or fax them to 502-695-1024; or

3. You may send comments by email to mike_floyd@fws.gov. Please include “Cumberland Darter Draft Recovery Plan Comments” on the subject line.

For additional information about submitting comments, see the Request for Public Comments section.

FOR FURTHER INFORMATION CONTACT: Michael Floyd (see ADDRESSES).

SUPPLEMENTARY INFORMATION: We, the Fish and Wildlife Service (Service), announce the availability of the technical/agency draft recovery plan for the endangered Cumberland darter, a fish. The draft recovery plan includes specific recovery objectives and criteria that would be used to delist this fish under the Endangered Species Act of 1973, as amended (16 U.S.C. 1531 et seq.; Act). We request review and comment on this draft recovery plan from local, State, and Federal agencies, and the public.

Background

The Act requires the development of recovery plans for listed species, unless such a plan would not promote the conservation of a particular species. Recovery plans describe actions considered necessary for conservation of species, establish criteria for delisting, and estimate time and cost for implementing recovery measures. Section 4(f) of the Act requires us to provide public notice and an opportunity for public review and comment during recovery plan development. We will consider all information presented during a public comment period prior to approval of each new or revised recovery plan. We and other Federal agencies will take these comments into consideration in the course of implementing approved recovery plans.

About the Species

We listed the Cumberland darter (Etheostoma susanae) as endangered under the Act on September 8, 2011 (76 FR 48722). The Cumberland darter is a small fish endemic to the upper Cumberland River basin, above Cumberland Falls, in Kentucky and Tennessee. Cumberland darters occur in 9 widely separated populations (total of 16 streams) in southeastern Kentucky and north-central Tennessee. No population estimates or status trends are available; however, survey results by Thomas (2007) suggest that the species is uncommon or occurs in low densities across its range.

Cumberland darters are known from streams ranging in size from small, second order tributaries to larger, fourth order streams such as Jellico Creek, Whitley County, Kentucky. Little is known of the species' life history or microhabitat suitability, but it is often encountered in pools or shallow runs of low-to-moderate-gradient sections of streams with sand, silt, or sand-covered bedrock substrates. Most of these habitats contain isolated boulders and large cobble that the species likely uses as cover.

We designated critical habitat for the Cumberland darter on October 16, 2012 (77 FR 63604). A total of 54 river miles (86 rkm) were designated, including 13 streams in McCreary and Whitley Counties, Kentucky, and Campbell and Scott Counties, Tennessee.

Threats

The majority of streams within the upper Cumberland River basin have been modified from their historical condition due to a number of anthropogenic activities such as agriculture, logging, residential development, road construction, and surface coal mining. As a result of these activities and associated stressors (e.g., siltation), the Cumberland darter has been extirpated from at least six streams and is now restricted to nine isolated watersheds. Limiting factors include the following: (1) Anthropogenic activities that cause siltation, disturbance of riparian corridors, and changes in channel morphology; (2) water quality degradation caused by a variety of nonpoint-source pollutants; and (3) naturally small population size and reduced geographic range.

Recovery Plan Components

The primary goal of this recovery plan is to recover Cumberland darter populations to the point that listing under the Act is no longer necessary. To achieve these goals, it is necessary to produce self-sustaining, viable populations that possess healthy, long-term demographic and genetic trends (e.g., evidence of multiple age classes and continued recruitment, high genetic diversity), and that are no longer threatened by any of the factors discussed above.

Management Units

For this Recovery Plan, we identify nine management units for the Cumberland Darter (refer to the associated Recovery Implementation Strategy, Figure 1). Based on the species' current distribution (refer to the associated Species Biological Report, Figures 1 and 2) and our knowledge of the species' movement patterns, we consider each management unit to represent a separate population. As genetic analyses are completed and more is known about the species' gene flow and genetic structure, it may be necessary to adjust or modify unit boundaries. All stream reaches within the species' historical range that are not specifically identified in the following management units, should not immediately be excluded from recovery activities if new information indicates these areas are necessary to prevent local extirpation or to facilitate recovery.

The management units are as follows:

Management Unit 1: The boundaries of this management unit correspond to critical habitat units 1 (Bunches Creek) and 2 (Calf Pen Fork), which are located entirely within the Daniel Boone National Forest (DBNF).

Management Unit 2: The boundaries of this management unit correspond to critical habitat units 7 (Kilburn Fork) and 8 (Laurel Fork). The majority of this management unit (73 percent) is located within the DBNF.

Management Unit 3: The boundaries of this management unit correspond to critical habitat unit 6 (Cogur Fork). The majority of this management unit (69 percent) is located within the DBNF.

Management Unit 4: The boundaries of this management unit correspond to critical habitat units 4 (Barren Fork) and 5 (Indian Creek), which are located entirely within the DBNF.

Management Unit 5: The boundaries of this management unit correspond to critical habitat units 9 (Laurel Creek), 10 (Elisha Branch), and 11 (Jenneys Branch), and a 7.4-km (4.6-mi) segment of Bridge Fork. The majority of this management unit (96 percent) is located within the DBNF.

Management Unit 6: This management unit corresponds to critical habitat units 13 (Jellico Creek), 14 (Rock Creek), and 15 (Capuchin Creek). A portion of this management unit (29 percent) is located within the DBNF.

Management Unit 7: The boundaries of this management unit correspond to critical habitat unit 3 (Youngs Creek). This unit is located almost entirely on private land, except for any small amount that is publicly owned in the form of bridge crossings and road easements.

Management Unit 8: The boundaries of this management unit correspond to critical habitat unit 12 (Wolf Creek). This unit is located almost entirely on private land, except for any small amount that is publicly owned in the form of bridge crossings and road easements.

Management Unit 9: This management unit does not correspond to a critical habitat unit because the species was thought to be extirpated from Laurel Fork when the critical habitat rule was published in 2012. The species was rediscovered in Laurel Fork (of Clear Fork) by the Kentucky State Nature Preserves Commission (KSNPC) and the Service in 2014 (Service unpublished data). This management unit is comprised of an approximate 16.7-km (10.4-mi) reach of Laurel Fork that extends from the mouth of Laurel Fork in Campbell County, Tennessee, upstream to Laurel Fork-Buffalo Creek Road in Whitley County, Kentucky. No collection records exist for the Tennessee portion of this management unit (Campbell and Claiborne Counties); however, recent collection records exist for areas near the Kentucky-Tennessee border, and suitable habitat is present throughout the Tennessee portion of the stream. This unit is located primarily on private property, except for a 6.6-km (4.1-mi) reach on the western side (right descending bank) of Laurel Fork in Archer-Benge State Nature Preserve, a 7.5-km² (1,864-ac) tract in Whitley County, Kentucky, and any small amount that is publicly owned in the form of bridge crossings and road easements.

Recovery Criteria

The Cumberland darter should be considered for removal from the List of Endangered and Threatened Wildlife when:

(1) Management Units 1-9 or Management Units 1-7, 9, and one additional stream within the species' historical range (e.g., Sanders Creek) are determined to be protected from present and foreseeable habitat threats through recovery efforts like land acquisition, conservation agreements and easements, stewardship, outreach, adequate regulatory oversight and enforcement, or other similar actions;

(2) Instream habitat quality (substrate, flows, water quality) in these management units is sufficient, as defined by recovery tasks 3.1 and 3.2, to meet the species' life history requirements; and

(3) A viable population (as defined in the recovery plan) must occur within each of these management units.

Request for Public Comments

We request written comments on the draft recovery plan. We will consider all comments we receive by the date specified in DATES prior to final approval of the plan.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533 (f).

Dated: March 26, 2018.
Leopoldo Miranda,
Acting Regional Director, Southeast Region.

[FR Doc. 2018-06631 Filed 4-2-18; 8:45 am]

BILLING CODE 4310-55-P